DEPARTMENT OF AGRICULTURE

Food Safety and Inspection Service

[Docket No. FSIS-2015-0007]

Codex Alimentarius Commission: Meeting of the Codex Committee on General Principles

AGENCY: Office of the Under Secretary for Food Safety, USDA.

ACTION: Notice of public meeting and request for comments.

SUMMARY: The Office of the Under Secretary for Food Safety, U.S. Department of Agriculture (USDA) is sponsoring a public meeting on February 25, 2015. The objective of the public meeting is to provide information and receive public comments on agenda items and draft United States (U.S.) positions to be discussed at the 29th Session of the Codex Committee on General Principles (CCGP) of the Codex Alimentarius Commission (Codex), which will take place in Paris, France, March 9-13,2015. The Deputy Under Secretary for Food Safety recognizes the importance of providing interested parties the opportunity to obtain background information on the 29th Session of CCGP and to address items on the agenda.

DATES: The public meeting is scheduled for Wednesday, February 25, 2014 from 1-4 p.m.

ADDRESSES: The public meeting will take place at the South Building, United States Department of Agriculture (USDA), 1400 Independence Ave SW., Room 1160, Washington, DC 20250. Documents related to the 29th Session of CCGP will be accessible on-line at the following address: http://www.codexalimentarius.org/meetings-reports/en/.

Mary Frances Lowe, U.S. Delegate to the 29th Session of CCGP, invites interested U.S. parties to submit their comments electronically to the following email address: USCODEX@fsis.usda.gov.

Call-In Number

If you wish to participate in the public meeting for the 29th Session of CCGP by conference call on February 25, 2015, please use the call-in number and participant code listed below:

Call-in Number: 1 (888) 844-9904

Participant code: 5126092

Registration

Attendees may register by emailing uscodex@fsis.usda.gov by February 24, 2015. Early registration is encouraged because it will expedite entry into the building. The meeting will be held in a Federal building. Attendees should also bring photo identification and plan for adequate time to pass through security screening systems. Those who are not able to attend the meeting in-person, but wish to participate may do so by phone.

FOR FURTHER INFORMATION CONTACT:

For Further Information About the 29th Session of CCGP Contact: Mary Frances Lowe, U.S. Codex Office, 1400 Independence Avenue, Room 4861, Washington, DC 20250, Phone: (202) 205-7760, Fax: (202) 720-3157, Email: USCODEX@fsis.usda.gov.

For Further Information About the Public Meeting Contact: Barbara McNiff, U.S. Codex Office, 1400 Independence Avenue, Room 4861, Washington, DC 20250. Phone: (202) 205-7760, Fax: (202) 720-3157, Email: USCODEX@fsis.usda.gov .

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The CCGP is responsible for dealing with procedural and general matters referred to it by Codex, for proposing amendments to the Codex Procedural Manual, and for reviewing and endorsing procedural provisions and texts forwarded by Codex Committees for inclusion in the Procedural Manual.

The Committee is hosted by France.

Issues To Be Discussed at the Public Meeting

The following items on the agenda for the 29th Session of CCGP will be discussed during the public meeting:

• Matters Referred to the Committee

• Proposed amendments to the Terms of Reference of CCGP

• Proposed amendments to the Procedures for the Elaboration of Codex Standards and Related Texts

• Consistency of the Risk Analysis Texts across the Relevant Committees

• Codex Work Management and Functioning of the Executive Committee

• Other Business

Each issue listed will be fully described in documents distributed, or to be distributed, by the Secretariat prior to the Committee meeting. Members of the public may access or request copies of these documents (see ADDRESSES).

Public Meeting

At the February 25, 2015, public meeting, draft U.S. positions on the agenda items will be described and discussed, and attendees will have the opportunity to pose questions and offer comments. Written comments may be offered at the meeting or sent to Mary Frances Lowe, U.S. Delegate for the 29th Session of CCGP (see ADDRESSES). Written comments should state that they relate to activities of the 29th Session of CCGP.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which is available accessed on-line at http://www.ocio.usda.gov/sites/default/files/docs/2012/Complain_combined_6_8_12.pdf, or write a letter signed by you or your authorized representative. Send your completed complaint form or letter to USDA by mail, fax, or email:

Mail

U.S. Department of Agriculture, Director, Office of Adjudication, 1400 Independence Avenue SW., Washington, DC 20250-9410.

Fax

(202) 690-7442.

Email

program.intake@usda.gov.

Persons with disabilities who require alternative means for communication (Braille, large print, audiotape, etc.), should contact USDA's TARGET Center at (202) 720-2600 (voice and TDD).

Dated: February 19, 2015.
Marie Maratos,
Acting U.S. Manager for Codex Alimentarius.

[FR Doc. 2015-03800 Filed 2-24-15; 8:45 am]

BILLING CODE 3410-DM-P